DEPARTMENT OF THE INTERIOR

Bureau of Land Management

[14X AF1109 LLUTG01210 L12200000.MA0000 24 1A]

Notice of Temporary Closure for Selected Public Lands in Uintah and Grand Counties, UT

AGENCY: Bureau of Land Management, Interior.

ACTION: Notice.

SUMMARY: As authorized under the provisions of the Federal Land Policy and Management Act of 1976, notice is hereby given that certain public lands near P.R. Springs developed camping site in Utah were temporarily closed to overnight camping. This closure provided for public health and safety due to serious concerns noted by the Utah Division of Wildlife Resources regarding the potential for human-bear conflicts in the area.

DATES: Effective: The temporary closure to overnight camping was in effect from July 30, 2014 through August 13, 2014.

FOR FURTHER INFORMATION CONTACT: Michelle Brown, Assistant Field Manager Resources, BLM Utah Vernal Field Office, telephone: 435-781-4400, email: m2brown@blm.gov. Persons who use a telecommunications device for the deaf (TDD) may call the Federal Information Relay Service (FIRS) at 1-800-877-8339 to leave a message or question for the above individual. The FIRS is available 24 hours a day, 7 days a week. Replies are provided during normal business hours.

SUPPLEMENTARY INFORMATION: The BLM's regulations at 43 CFR 8364(c) require that this notice of closure be published in the Federal Register even though the lands reopened on August 14, 2014. The temporary closure affected public lands within and adjacent to the P.R. Springs developed camping site. This closure applied to all overnight camping in both developed and dispersed camping areas. The public lands affected by this closure are described as follows:

A 5-mile radius surrounding the area known as P.R. Springs, specifically located at

Salt Lake Meridian, Utah

T. 15 S., R. 23 E.,

Sec. 36, SE¼SE¼.

The closure was announced on July 30, 2014. The closure notice and map of the closure area were posted at the BLM Utah Vernal Field Office, 170 South 500 East, Vernal, UT, and on the BLM Web site: http://www.blm.gov/ut/st/en/fo/vernal.html. Signs were posted on roads leading into the lands under closure to notify the public of the temporary closure. The following were exceptions to the closure:

(1) Day use between the hours of 6 a.m. and 9 p.m.;

(2) Any Federal, state, or local officer or employees in the scope of their official duties;

(3) Members of any organized rescue or firefighting force in performance of an official duty;

(4) Vehicles owned by the United States, the State of Utah, and Uintah and Grand Counties; and

(5) Any person authorized in writing by the BLM Utah Vernal Field Manager.

Penalties: Any person who violates the above rules and restrictions may be tried before a United States Magistrate and fined no more than $1,000, imprisoned for no more than 12 months, or both. Such violations may also be subject to enhanced fines provided for under Title 18, U.S.C. Sections 3571.

Authority: 43 CFR 8364.1

Approved:
Jenna Whitlock,
Associate State Director.

[FR Doc. 2014-27266 Filed 11-17-14; 8:45 am]

BILLING CODE 4310-DQ-P